DEPARTMENT OF LABOR

Office of the Secretary

Submission for OMB Review; Comment Request

June 23, 2000.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation for BLS, ETA, PWBA, and OASAM contact Karin Kurz ((202) 219-5096 ext. 159 or by e-mail to Kurz-Karin@dol. gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title: 4,4′-Methylenedianiline (MDA)—29 CFR 1926.60.

Type of Review: Extension.

OMB Number: 1218-0183.

Frequency: On occasion.

Affected Public: Business or other for-profit; Federal Government; State, Local, or Tribal Government.

Number of Respondents: 66.

Number of Annual Responses: 3,220.

Estimated Time Per Response: Varies from 5 minutes to provide information to the examining physician to 2 hours to update and review compliance plans.

Total Burden Hours: 1,520.

Total Annualized capital/startup costs: $0.

Total Annual costs (operating/maintaining systems or purchasing services): $73.500.

Description: The purpose of this standard and its information collection requirements is to provide protection for employees from adverse health effects associated with occupational exposure to MDA. Employers must monitor exposure, keep employee exposures within the permissible exposure limits, provides employees with medical examinations and training, and establish and maintain employee exposure-monitoring and medical records.

Agency: Occupational Safety and Health Administration (OSHA).

Title: 4,4′-Methylenedianiline (MDA)—29 CFR 1910.1050.

Type of Review: Extension.

OMB Number: 1218-0184.

Frequency: On occasion.

Affected Public: Business or other for-profit; Federal Government; State, Local, or Tribal Government.

Number of Respondents: 12.

Number of Annual Responses: 650.

Estimated Time Per Response: Varies from 5 minutes to provide information to the examining physician to 2 hours to update and review compliance plans.

Total Burden Hours: 320.

Total Annualized Capital/Startup Costs: $0.

Total Annual Costs (operating/mintaining systems or purchasing services: $19,170.

Description: The purpose of this standard and its information collection requirements is to provide protection for employees from adverse health effects associated with occupational exposure to MDA. Employers must monitor exposure, keep employee exposures within the permissible exposure limits, provide employees with medical examinations and training, and establish and maintain employee exposure-monitoring and medical records.

Agency: Employment Standards Administration (ESA).

Title: Notice of Termination, Suspension, Reduction or Increase in Benefit Payments.

Type of Review: Extension.

OMB Number: 1215-0064.

Frequency: On occasion.

Affected Public: Business or other for-profit.

Number of Respondents: 325.

Number of Annual Responses: 9,000.

Estimated Time Per Response: 12 minutes.

Total Burden Hours: 1,800.

Total Annualized Capital/Startup Costs: $0.

Total Annual Costs (operating/maintaining systems or purchasing services): $3,240.

Description: Coal mine operators who pay monthly black lung benefits must notify DCMWC of any change in benefits and the reason for that change. DCMWC uses this notification to monitor payments to beneficiaries.

Ira L. Mills,
Departmental Clearance Officer.

[FR Doc. 00-16749 Filed 6-30-00; 8:45 am]

BILLING CODE 4510-26-M